DEPARTMENT OF JUSTICE

Antitrust Division

Notice Pursuant to the National Cooperative Research and Production Act of 1993—Undersea Technology Innovation Consortium

Notice is hereby given that, on April 9, 2025, pursuant to Section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances. Specifically, Spear AI, Inc., Washington, DC; HAMR Industries LLC, Clinton, PA; Exponent, Inc., Menlo Park, CA; BAE Systems Technology Solutions & Services, Inc., Rockville, MD; L3Harris Tech, Inc., Northampton, MA; Albacore Ocean Systems LLC, New York, NY; Marotta Controls, Inc., Montville, NJ; Akita Innovations LLC, North Billerica, MA; Analog Devices, Inc., Wilmington, MA; Computer Conversions, Corp., East Northport, NY; MacArtney, Inc., Houston, TX; and 0 Base Design LLC, Wake Forest, NC, have been added as parties to this venture.

Also, Linden Photonics, Inc., Westford, MA; Pure Watercraft, Inc., Seattle, WA; Applied Technical Systems, Inc., Silverdale, WA; MagiQ Technologies, Inc., Somerville, MA; and Ashwin-Ushas, Corp., Holmdel, NJ, have withdrawn as parties to this venture.

No other changes have been made in either the membership or planned activity of the group research project. Membership in this group research project remains open, and UTIC intends to file additional written notifications disclosing all changes in membership.

On October 9, 2018, UTIC filed its original notification pursuant to Section 6(a) of the Act. The Department of Justice published a notice in the Federal Register pursuant to Section 6(b) of the Act on November 2, 2018 (83 FR 55203).

The last notification was filed with the Department on January 17, 2025. A notice was published in the Federal Register pursuant to Section 6(b) of the Act on March 14, 2025 (90 FR 12175).

Suzanne Morris,
Deputy Director Civil Enforcement Operations, Antitrust Division.

[FR Doc. 2025-07891 Filed 5-5-25; 8:45 am]

BILLING CODE P